DEPARTMENT OF HEALTH AND HUMAN SERVICES

Meetings of the Presidential Advisory Council on Combating Antibiotic-Resistant Bacteria

AGENCY: Office of the Assistant Secretary for Health, Office of the Secretary, Department of Health and Human Services.

ACTION: Notice.

SUMMARY: As stipulated by the Federal Advisory Committee Act, the Department of Health and Human Services (HHS) is hereby giving notice that a virtual meeting is scheduled to be held for the Presidential Advisory Council on Combating Antibiotic-Resistant Bacteria (PACCARB). The meeting will be open to the public and will be streamed live on hhs.gov/live. A pre-registered public comment session will be held during the meeting. Pre-registration is required for members of the public who wish to present their comments live during the virtual meeting. Individuals who wish to provide written public comment should send an email to CARB@hhs.gov that includes their written comments. Registration information is available on the website http://www.hhs.gov/paccarb and should be completed by December 18, 2023 for the December 20, 2023 virtual Public Meeting. Additional information about registering for the meeting and providing public comment can be obtained at http://www.hhs.gov/paccarb on the Upcoming Meetings page. HHS is also giving notice of the appointment of 16 new PACCARB councilmembers that will be sworn-in in preparation of the December 20, 2023 virtual public meeting.

DATES: The meeting is scheduled to be held on December 20, 2023, from 9 a.m. to 4 p.m. ET (times are tentative and subject to change). The confirmed times and agenda items for the meeting will be posted on the website for the PACCARB at http://www.hhs.gov/paccarb when this information becomes available. Pre-registration for attending the meeting is strongly suggested and should be completed no later than December 18, 2023.

ADDRESSES: The virtual meeting can be accessed through a live webcast on the day of the meeting. Additional instructions regarding attending this meeting virtually will be posted at least one week prior to the meeting at: http://www.hhs.gov/paccarb.

FOR FURTHER INFORMATION CONTACT: Jomana Musmar, M.S., Ph.D., Designated Federal Officer, Presidential Advisory Council on Combating Antibiotic-Resistant Bacteria, Office of the Assistant Secretary for Health, U.S. Department of Health and Human Services, 1101 Wootton Parkway, Rockville, MD 20852. Phone: 202-746-1512; Email: CARB@hhs.gov.

SUPPLEMENTARY INFORMATION: The Presidential Advisory Council on Combating Antibiotic-Resistant Bacteria (PACCARB), established by Executive Order 13676, is continued by section 505 of Public Law 116-22, the Pandemic and All-Hazards Preparedness and Advancing Innovation Act of 2019 (PAHPAIA). Activities and duties of the PACCARB are governed by the provisions of the Federal Advisory Committee Act (FACA), Public Law 92-463, as amended (5 U.S.C. app.), which sets forth standards for the formation and use of federal advisory committees.

The PACCARB shall advise and provide information and recommendations to the Secretary of Health and Human Services (Secretary) regarding programs and policies intended to reduce or combat antibiotic-resistant bacteria that may present a public health threat and improve capabilities to prevent, diagnose, mitigate, or treat such resistance. The PACCARB shall function solely for advisory purposes.

Such advice, information, and recommendations may be related to improving: the effectiveness of antibiotics; research and advanced research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States capabilities to combat antibiotic resistance.

The Advisory Council is authorized to consist of at least 30 members, including the voting and non-voting members and the Chair and Vice Chair. The current composition of the Advisory Council consists of 15 voting members, including the Chair and Vice Chair, eight non-voting liaison representative members, and 12 non-voting ex-officio members. In March of 2023, the terms of 16 councilmembers ended, and an announcement was published August 1, 2022 and closed on September 19, 2022 to solicit nominations to fill the open PACCARB positions, nine of which were in the voting member category, including the Chair and Vice-Chair positions, while the remaining seven were in the non-voting liaison member category. These positions have been filled and the new PACCARB members will be sworn-in in preparation for the December 20, 2023, virtual public meeting. Newly appointed voting members were selected to serve four-year terms, and non-voting liaison members were appointed to serve for two-year terms. The full roster of councilmembers, including the 16 new members, can be found on the Membership page at http://www.hhs.gov/paccarb.

The December 20, 2023, virtual public meeting will be dedicated to current global U.S. federal efforts to combat antimicrobial resistance in response to a task from the Secretary given to the PACCARB in 2023. The signed task letter from the Secretary can be found at http://www.hhs.gov/paccarb. The meeting agenda will be posted on the PACCARB website at http://www.hhs.gov/paccarb when it has been finalized. All agenda items and times are tentative and subject to change. Instructions regarding attending the meeting virtually will be posted at least one week prior to the meeting at: http://www.hhs.gov/paccarb.

Members of the public will have the opportunity to provide comments during the December meeting by pre-registering online at http://www.hhs.gov/paccarb. Pre-registration is required for participation in this session with limited spots available. Written public comments can also be emailed to CARB@hhs.gov by midnight December 18, 2023 and should be limited to no more than one page. All public comments received prior to December 18, 2023, will be provided to the PACCARB members. Additionally, companies and/or organizations involved in combating antibiotic resistance have an opportunity to present their work to members of the PACCARB live during an Innovation Spotlight. Pre-registration is required for participation, with limited spots available. All information regarding this session can also be found online at http://www.hhs.gov/paccarb.

Dated: November 9, 2023.
Jomana F. Musmar,
Designated Federal Officer, Presidential Advisory Council on Combating Antibiotic-Resistant Bacteria, Office of the Assistant Secretary for Health.

[FR Doc. 2023-26320 Filed 11-29-23; 8:45 am]

BILLING CODE 4150-44-P